SUSQUEHANNA RIVER BASIN COMMISSION

Actions Taken at September 7, 2018, Meeting

AGENCY: Susquehanna River Basin Commission.

ACTION: Notice.

SUMMARY: As part of its regular business meeting held on September 7, 2018, in Binghamton, New York, the Commission approved or tabled the applications of certain water resources projects, and took additional actions, as set forth in the Supplementary Information below.

DATES: September 7, 2018.

ADDRESSES: Susquehanna River Basin Commission, 4423 N Front Street, Harrisburg, PA 17110-1788.

FOR FURTHER INFORMATION CONTACT: Ava Stoops, Administrative Specialist, telephone: 717-238-0423; fax: 717-238-2436; srbc@srbc.net. Regular mail inquiries may be sent to the above address. See also Commission website at www.srbc.net.

SUPPLEMENTARY INFORMATION: In addition to the actions taken on projects identified in the summary above and the listings below, the following items were also presented or acted upon at the business meeting: (1) Tabling the release of a proposed rulemaking for consideration at a future Commission meeting; (2) adoption of an update to the Commission's investment policy statement addenda; (3) granting a request from Lycoming County Water & Sewer Authority to extend the deadline to commence withdrawal by two years; (4) approval of several grant amendments and agreements, and an equipment purchase; (5) tabling action on a resolution for a consumptive use water storage and mitigation project at Billmeyer Quarry for consideration at the December 2018 Commission meeting; and (6) a report on a delegated settlement, pursuant to Commission Resolution 2014-15, with Moxie Freedom, LLC, in the amount of $1,200.

Project Applications Approved

The Commission approved the following project applications:

1. Project Sponsor and Facility: ARD Operating, LLC (Pine Creek), McHenry Township, Lycoming County, Pa. Renewal of surface water withdrawal of up to 0.499 mgd (peak day) (Docket No. 20140902).

2. Project Sponsor and Facility: BKV Operating, LLC (East Branch Wyalusing Creek), Jessup Township, Susquehanna County, Pa. Renewal of surface water withdrawal of up to 0.999 mgd (peak day) (Docket No. 20140904).

3. Project Sponsor and Facility: Cabot Oil & Gas Corporation (Tunkhannock Creek), Nicholson Township, Wyoming County, Pa. Renewal of surface water withdrawal of up to 2.000 mgd (peak day) (Docket No. 20140903).

4. Project Sponsor and Facility: Columbia Water Company, Hellam Township, York County, Pa. Groundwater withdrawal of up to 0.015 mgd (30-day average) from Dugan Well 4.

5. Project Sponsor and Facility: Eclipse Resources-PA, LP (Cowanesque River), Deerfield Township, Tioga County, Pa. Surface water withdrawal of up to 3.000 mgd (peak day).

6. Project Sponsor and Facility: Elizabethtown Area Water Authority, Elizabethtown Borough, Lancaster County, Pa. Renewal of groundwater withdrawal of up to 0.300 mgd (30-day average) from Well 5 (Docket No. 19880402).

7. Project Sponsor and Facility: Inflection Energy (PA) LLC (Loyalsock Creek), Upper Fairfield Township, Lycoming County, Pa. Renewal of surface water withdrawal of up to 1.700 mgd (peak day) (Docket No. 20140905).

8. Project Sponsor: Lancaster County Solid Waste Management Authority. Project Facility: Solid Waste Resource Recovery, Conoy Township, Lancaster County, Pa. Renewal of consumptive use of up to 0.950 mgd (peak day) (Docket No. 19880901).

9. Project Sponsor and Facility: Repsol Oil & Gas USA, LLC (Susquehanna River), Terry Township, Bradford County, Pa. Renewal of surface water withdrawal of up to 1.500 mgd (peak day) (Docket No. 20140909).

10. Project Sponsor and Facility: Repsol Oil & Gas USA, LLC (Wappasening Creek), Windham Township, Bradford County, Pa. Renewal of surface water withdrawal of up to 0.999 mgd (peak day) (Docket No. 20140910).

11. Project Sponsor and Facility: SWEPI LP (Cowanesque River), Deerfield Township, Tioga County, Pa. Modification to reduce surface water withdrawal from 2.000 mgd to 1.000 mgd (peak day) and reassess passby flow thresholds (Docket No. 20161218).

12. Project Sponsor and Facility: Togg Mountain LLC, Town of Fabius, Onondaga County, NY. Consumptive use of up to 0.485 mgd (peak day).

13. Project Sponsor and Facility: Togg Mountain LLC (West Branch of Tioughnioga Creek), Town of Fabius, Onondaga County, NY. Surface water withdrawal of up to 2.200 mgd (peak day).

14. Project Sponsor and Facility: Towanda Municipal Authority, North Towanda Township, Bradford County, Pa. Groundwater withdrawal of up to 0.432 mgd (30-day average) from Church Production Well 1.

15. Project Sponsor and Facility: Towanda Municipal Authority, North Towanda Township, Bradford County, Pa. Groundwater withdrawal of up to 1.000 mgd (30-day average) from Roberts Production Well 1.

16. Project Sponsor and Facility: Towanda Municipal Authority, North Towanda Township, Bradford County, Pa. Groundwater withdrawal of up to 1.000 mgd (30-day average) from Roberts Production Well 2.

Project Applications Tabled

The Commission tabled action on the following project applications:

1. Project Sponsor: Aqua Pennsylvania, Inc. Project Facility: Beech Mountain System, Butler Township, Luzerne County, Pa. Application for groundwater withdrawal of up to 0.144 mgd (30-day average) from Beech Mountain Well 1.

2. Project Sponsor: Aqua Pennsylvania, Inc. Project Facility: Beech Mountain System, Butler Township, Luzerne County, Pa. Application for groundwater withdrawal of up to 0.144 mgd (30-day average) from Beech Mountain Well 2.

3. Project Sponsor: Aqua Pennsylvania, Inc. Project Facility: Beech Mountain System, Butler Township, Luzerne County, Pa. Application for groundwater withdrawal of up to 0.124 mgd (30-day average) from Beech Mountain Well 3.

Project Application Withdrawn

The following project application was withdrawn by the project sponsor:

1. Project Sponsor and Facility: Eclipse Resources-PA, LP (Pine Creek), Gaines Township, Tioga County, Pa. Application for surface water withdrawal of up to 3.000 mgd (peak day).

Authority: Pub. L. 91-575, 84 Stat. 1509 et seq., 18 CFR parts 806, 807, and 808.

Dated: September 27, 2018.
Stephanie L. Richardson,
Secretary to the Commission.

[FR Doc. 2018-21416 Filed 10-1-18; 8:45 am]

BILLING CODE 7040-01-P